DEPARTMENT OF THE INTERIOR

Bureau of Land Management

DEPARTMENT OF AGRICULTURE

Forest Service

[CA-668-1040 (P)]

Correction to Notice of a Call for Nominations for the Santa Rosa and San Jacinto Mountains National Monument Advisory Committee

AGENCIES: Bureau of Land Management, U.S. Department of the Interior; Forest Service, U.S. Department of Agriculture.

ACTION: Notice of correction; this notice was previously published in the Federal Register: Vol. 69, No. 94, Friday, May 14, 2004.

SUMMARY: The Federal Register Notice incorrectly identified positions open for nomination. The call for nominations for a representative of the Winter Park Authority is withdrawn. The current Winter Park Authority position expires in 2005. This Federal Register notice will open the call for nominations for a representative with expertise in the natural science and research selected from a regional college or university, for a 3-year term starting in November 2004 and ending in November 2007.

DATES: Submit nomination packets for the natural science position to the address listed below by August 9, 2004.

ADDRESSES: Request nomination packets and send completed nomination packets to: Advisory Committee Nominations, Ms. Danella George, Bureau of Land Management, P.O. Box 581260, North Palm Springs, California 92258-1260.

FOR FURTHER INFORMATION CONTACT: Ms. Danella George, Santa Rosa and San Jacinto Mountains National Monument Manager, (760) 251-4800.

Dated: June 17, 2004.
Melissa Drew,
Acting Santa Rosa and San Jacinto Mountains National Monument Manager, Palm Springs Field Office of the Bureau of Land Management.
Dated: June 16, 2004.
Laurie Rosenthal,
District Ranger, San Jacinto Ranger District, San Bernardino National Forest, U.S. Forest Service.

[FR Doc. 04-14402 Filed 6-24-04; 8:45 am]

BILLING CODE 4310-33-P